DEPARTMENT OF DEFENSE

Department of the Army

Availability for Non-Exclusive, Exclusive, or Partially Exclusive Licensing of U.S. Provisional Patent Application Concerning System and Method for Evaluating Data Sets Over a Communications Network

AGENCY: Department of the Army, DoD.

ACTION: Notice.

SUMMARY: In accordance with 37 CFR 404.6 and 404.7, announcement is made of the availability for licensing of the invention set forth in U.S. Provisional Patent Application Serial No. 60/634,987 entitled “System and Method for Evaluating Data Sets Over a Communications Network,” filed December 13, 2004. The United States Government, as represented by the Secretary of the Army, has rights in this invention.

ADDRESSES: Commander, U.S. Army Medical Research and Materiel Command, ATTN: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present invention relates to computer-implemented data analysis systems and methods. In particular, the present invention is related to a system and method for analyzing large time-series and non time-series data files stored on a server by collaborative researchers who are located at remote locations but who are in data communication with the server.

Brenda S. Bowen,
Army Federal Register Liaison Officer.

[FR Doc. 05-11357 Filed 6-7-05; 8:45 am]

BILLING CODE 3710-08-M